NATIONAL SCIENCE FOUNDATION

Sunshine Act Meeting Notice

Agency Holding Meeting: National Science Foundation, National Science Board, Ad hoc Committee on NSB Nominees Class of 2006-2012.

Date and Time: July 15, 2004 2:30 p.m.-4 p.m.

Place: National Science Foundation, 4201 Wilson Boulevard, Arlington, VA 22230.

Status: This meeting will be closed to the public.

Matters to be Considered: Nominees for appointments as NSB members.

FOR FURTHER INFORMATION CONTACT: Dr. Michael P. Crosby, Executive Officer and NSB Office Director, (703) 292-7000, www.nsf.gov/nsb.

Michael P. Crosby,
Executive Officer and NSB Office Director.

[FR Doc. 04-16162 Filed 7-13-04; 10:26 am]

BILLING CODE 7555-01-P